FEDERAL MARITIME COMMISSION

Ocean Transportation Intermediary License Rescission of Order of Revocation

The Commission gives notice that the Order revoking the following Ocean Transportation Intermediary license has been rescinded pursuant to section 19 of the Shipping Act of 1984 (46 U.S.C. 40101).

License Number: 017466N.

Name: Compass Shipping, Inc.

Address: 730 Chester Street, Brooklyn, NY 11236.

Order Published: August 5, 2014 (79 FR 45807 DOC No. 2014-18566).

Sandra L. Kusumoto,
Director, Bureau of Certification and Licensing.

[FR Doc. 2014-19723 Filed 8-19-14; 8:45 am]

BILLING CODE 6730-01-P